DEPARTMENT OF LABOR

Employment and Training Administration

[TA-W-54,862]

Irwin Industrial Tool Company, Division of Newell Rubbermaid, Plant #3, Including Leased Workers of Aerotek, Inc., Wilmington, OH; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on June 9, 2004, applicable to workers of Irwin Industrial Tool Company, a division of Newell Rubbermaid, including leased workers of Aerotek, Inc., Wilmington, Ohio. The notice will be published soon in the Federal Register.

At the request of the State agency, the Department reviewed the certification for workers of the subject firm. The information provided by the State agency shows that the Department failed to include the plant number in the certification. Accordingly, the Department is amending the certification to specifically identify the workers as those in Plant #3 of the subject firm.

The amended notice applicable to TA-W-54,862 is hereby issued as follows:

“All workers of Irwin Industrial Tool Company, Plant #3, a division of Newell Rubbermaid, including leased workers of Aerotek, Inc., Wilmington, Ohio, who became totally or partially separated from employment on or after May 5, 2003, through June 9, 2006, are eligible to apply for adjustment assistance under Section 223 of the Trade Act of 1974, and are also eligible to apply for alternative trade adjustment assistance under section 246 of the Trade Act of 1974.”

Signed at Washington, DC this 22nd day of June 2004.
Linda G. Poole,
Certifying Officer, Division of Trade Adjustment Assistance.

[FR Doc. 04-14784 Filed 6-29-04; 8:45 am]

BILLING CODE 4510-30-P